DEPARTMENT OF DEFENSE

Corps of Engineers

Department of the Army: Intent to Prepare a Draft Environmental Impact Statement for the General Re-Evaluation Report for the Mamaroneck and Sheldrake Rivers Flood Damage Risk Reduction Project Village of Mamaroneck, Westchester County, NY

AGENCY: Department of the Army, U.S. Army Corps of Engineers, DoD.

ACTION: Notice of intent.

SUMMARY: The U.S. Army Corps of Engineers, New York District (District), is preparing a Draft Environmental Impact Statement (DEIS) to ascertain compliance with and to lead to the production of a National Environmental Policy Act (NEPA) document in accordance with the President's Council of Environmental Quality (CEQ) Rules and Regulations, as defined and amended in 40 Code of Federal Regulations (CFR), Parts 1500-1508, Corps principles and guidelines as defined in Engineering Regulation (ER) 1105-2-100, and other applicable Federal and State environmental laws for the proposed Mamaroneck and Sheldrake Rivers Flood Damage Risk Reduction Project. The study area consists of the Mamaroneck and Sheldrake Rivers Basin, which lies entirely within Westchester County, New York and contains portions of the Village and Town of Mamaroneck, the Cities of New Rochelle and White Plains, the Towns of Harrison and North Castle, and the Village of Scarsdale. The EIS process will identify the potential social, economic, cultural, and environmental affects through the implementation of the alternative plans. The District will work as part of a team to include the New York State Department of Environmental Conservation and possibly the County of Westchester, and the Village and/or Town of Mamaroneck.

ADDRESSES: U.S. Army Corps of Engineers, New York District, Planning Division, Environmental Analysis Branch, 26 Federal Plaza, Room 2151, New York, NY 10278-0090.

FOR FURTHER INFORMATION CONTACT: Matthew Voisine, Project Biologist, at matthew.voisine@usace.army.mil or 917.790.8718.

SUPPLEMENTARY INFORMATION: 1. It is anticipated that a DEIS will be made available for public review in May 2013.

2. Public information meeting(s) will be held during the DEIS process and comments and issues will be incorporated into the document.

3. When the date(s) and time(s) for the public meeting(s) are identified, they will be posted on the Districts website at http://www.nan.usace.army.mil

4. Individuals interested in obtaining a copy of the DEIS for review should contact Matthew Voisine (see ADDRESSES).

5. All federal agencies interested in participating as a Cooperating Agency are requested to submit a letter of intent to COL John R. Boulé II, P.E., District Engineer, U.S. Army Corps of Engineers, 26 Federal Plaza, Room 2109, New York, NY 10278-0090 .

Dated: July 15, 2010.
Nancy Brighton.
Chief, Watershed Section, U.S. Army Corps of Engineers, New York District.

[FR Doc. 2010-18197 Filed 7-23-10; 8:45 am]

BILLING CODE 3720-58-P